DEPARTMENT OF TRANSPORTATION

National Highway Traffic Safety Administration

[Docket No. NHTSA-2022-0015; Notice 1]

AGC Automotive Americas Co., Receipt of Petition for Decision of Inconsequential Noncompliance

AGENCY: National Highway Traffic Safety Administration (NHTSA), Department of Transportation (DOT).

ACTION: Receipt of petition.

SUMMARY: AGC Automotive Americas Co., (AGC), has determined that certain glass backlites and sidelites manufactured as replacement parts do not fully comply with Federal Motor Vehicle Safety Standard (FMVSS) No. 205, Glazing Materials. AGC filed an original noncompliance report dated March 11, 2020. AGC petitioned NHTSA on April 7, 2020, for a decision that the subject noncompliance is inconsequential as it relates to motor vehicle safety. This document announces receipt of AGC's petition.

DATES: Send comments on or before July 13, 2023.

ADDRESSES: Interested persons are invited to submit written data, views, and arguments on this petition. Comments must refer to the docket and notice number cited in the title of this notice and may be submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000 (65 FR 19477-78).

FOR FURTHER INFORMATION CONTACT: Jack Chern, Safety Compliance Engineer, Office of Vehicle Safety Compliance, NHTSA, (202) 366-0661.

SUPPLEMENTARY INFORMATION:

I. Overview: AGC determined that certain glass backlites and sidelites manufactured as replacement parts do not fully comply with paragraph S6.2 of FMVSS No. 205, Glazing Materials (49 CFR 571.205).

AGC filed an original noncompliance report dated March 11, 2020, pursuant to 49 CFR part 573, Defect and Noncompliance Responsibility and Reports. AGC petitioned NHTSA on April 7, 2020, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

This notice of receipt of AGC's petition is published under 49 U.S.C. 30118 and 30120 and does not represent any agency decision or another exercise of judgment concerning the merits of the petition.

II. Equipment Involved: Approximately 1,843 glass backlites and sidelites manufactured as replacement parts between February 1, 2008, and July 31, 2018, were reported by the manufacturer.

III. Noncompliance: AGC explains that the subject replacement glass does not have the required “DOT” certification marking and manufacturer code, and therefore does not comply with paragraph S6.2 of FMVSS No. 205. Specifically, the subject equipment is missing the marking “DOT 24” indicating DOT certification and AGC's assigned manufacturer code.

IV. Rule Requirements: Paragraph S6.2 of FMVSS No. 205 includes the requirements relevant to this petition. A prime glazing manufacturer must certify its glazing by adding to the marks required by section 7 of ANSI/SAE Z26.1-1996, in letters and numerals of the same size, the symbol “DOT” and a manufacturer's code mark that is assigned to the manufacturer. NHTSA will assign a code mark to a manufacturer after the manufacturer submits a written request that must include the company name, address, and a statement from the manufacturer certifying its status as a prime glazing manufacturer.

V. Summary of AGC's Petition: The following views and arguments presented in this section, “V. Summary of AGC's Petition,” are the views and arguments provided by AGC. They have not been evaluated by the Agency and do not reflect the views of the Agency. AGC describes the subject noncompliance and contends that the noncompliance is inconsequential as it relates to motor vehicle safety.

AGC explains that the subject replacement glass inadvertently entered the U.S. market through Automotive Replacement Glass (ARG), a business unit in Europe. The shipment was made to satisfy a replacement glass order for the U.S. market. AGC states that the subject replacement glass was manufactured without the “DOT” certification marking and manufacturer code because they were not intended to be sold in the U.S.

After investigating the issue, AGC states that it blocked shipments of the noncompliant replacement glass, tested the affected replacement glass to confirm that it met the applicable FMVSS performance requirements, and destroyed extant stock. AGC believes that the missing “DOT” symbol on glazing does not create a risk to motor vehicle safety and is therefore, inconsequential, based on its finding that no test indicated any issue with the glass.

AGC believes that the subject noncompliance is inconsequential to motor vehicle safety because the subject replacement glass met the performance requirements as stated in FMVSS No. 205. Furthermore, AGC states that it has not received “reports of any noncompliance either for any of these parts produced during this time including parts shipped with and without the required DOT number,” nor have there been any customer complaints related to the subject replacement glass.

AGC claims that the following petitions for similar noncompliances have previously been granted by NHTSA:

• Pilkington North America, Inc., Grant of Petition for Decision of Inconsequential Noncompliance; 78 FR 22942 (April 17, 2003)

• Fuji Heavy Industries USA, Inc., Grant of Petition for Decision of Inconsequential Noncompliance; 78 FR 59088 (September 25, 2013)

• Toyota Motor Corporation., Grant of Petition for Decision of Inconsequential Noncompliance; 68 FR 10307 (March 4, 2003)

• Mitsubishi Motors North America, Inc., Grant of Petition for Decision of Inconsequential Noncompliance; 80 FR 72482 (August 27, 2015) ¹

¹ AGC included the incorrect date of the cited Federal Register notice. 80 FR 72482 was published on November 19, 2015.

• Custom Glass Solutions Upper Sandusky Corp., Grant of Petition for Decision of Inconsequential Noncompliance; 80 FR 3737 (January 23, 2015)

• Supreme Corporation, Grant of Petition for Decision of Inconsequential Noncompliance; 81 FR 72850 (October 21, 2016)

• Ford Motor Company, Grant of Petition for Decision of Inconsequential Noncompliance; 78 FR 32531 (May 30, 2013)

• Ford Motor Company, Grant of Petition for Decision of Inconsequential Noncompliance; 80 FR 11259 (March 2, 2015)

• General Motors, LLC, Grant of Petition for Decision of Inconsequential Noncompliance; 79 FR 23402 (September 25, 2015) ²

² AGC included the incorrect date of the cited Federal Register notice. 79 FR 23402 was published on April 28, 2014.

AGC concludes by stating its belief that the subject noncompliance is inconsequential as it relates to motor vehicle safety and its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject equipment that AGC no longer controlled at the time it determined that the noncompliance existed. However, any decision on this petition does not relieve equipment distributors and dealers of the prohibitions on the sale, offer for sale, or introduction or delivery for introduction into interstate commerce of the noncompliant equipment under their control after AGC notified them that the subject noncompliance existed.

(Authority: 49 U.S.C. 30118, 30120: delegations of authority at 49 CFR 1.95 and 501.8)

Otto G. Matheke, III,
Director, Office of Vehicle Safety Compliance.

[FR Doc. 2023-12566 Filed 6-12-23; 8:45 am]

BILLING CODE 4910-59-P